DEPARTMENT OF COMMERCE

Foreign-Trade Zones Board

[B-12-2021]

Foreign-Trade Zone (FTZ) 5—Seattle, Washington; Notification of Proposed Production Activity; Juno Therapeutics, Inc. (Biopharmaceuticals); Bothell, Washington

Juno Therapeutics, Inc. (Juno) submitted a notification of proposed production activity to the FTZ Board for its facility in Bothell, Washington. The notification conforming to the requirements of the regulations of the FTZ Board (15 CFR 400.22) was received on February 12, 2021.

A separate application has been submitted for FTZ designation at the company's facility under FTZ 5. The facility is used for the production of cell therapy products. Pursuant to 15 CFR 400.14(b), FTZ activity would be limited to the specific foreign-status material and specific finished product described in the submitted notification (as described below) and subsequently authorized by the FTZ Board.

Production under FTZ procedures could exempt Juno from customs duty payments on the foreign-status material used in export production. On its domestic sales, for the foreign-status material noted below, Juno would be able to choose the duty rate during customs entry procedures that applies to cell therapy products (duty-free). Juno would be able to avoid duty on foreign-status material which becomes scrap/waste. Customs duties also could possibly be deferred or reduced on foreign-status production equipment. The material sourced from abroad is human primary cells (“T-cells”) (duty-free).

Public comment is invited from interested parties. Submissions shall be addressed to the Board's Executive Secretary and sent to: ftz@trade.gov. The closing period for their receipt is April 12, 2021.

A copy of the notification will be available for public inspection in the “Reading Room” section of the Board's website, which is accessible via www.trade.gov/ftz.

For further information, contact Diane Finver at Diane.Finver@trade.gov or (202) 482-1367.

Dated: February 22, 2021.
Andrew McGilvray,
Executive Secretary.

[FR Doc. 2021-04104 Filed 2-26-21; 8:45 am]

BILLING CODE 3510-DS-P